OFFICE OF GOVERNMENT ETHICS

Agency Information Collection Activities; Submission for OMB Review; Proposed Collection; Comment Request for a Modified OGE Form 201 Ethics in Government Act Access Form

AGENCY: Office of Government Ethics (OGE).

ACTION: Notice of request for agency and public comments.

SUMMARY: After publication of this second round notice, OGE intends to submit a modified OGE Form 201 Ethics in Government Act access form to the Office of Management and Budget (OMB) for review and approval of a three-year extension under the Paperwork Reduction Act of 1995. The OGE Form 201 is used by persons requesting access to executive branch public financial disclosure reports and other covered records.

DATES: Written comments by the public and the agencies on this proposed extension are invited and must be received on or before January 30, 2017.

ADDRESSES: You may submit comments on this paperwork notice to the Office of Management and Budget, Attn: Desk Officer for OGE, via fax at 202-395-6974 or email at OIRA_Submission@omb.eop.gov. (Include reference to “OGE Form 201 paperwork comment” in the subject line of the message.)

FOR FURTHER INFORMATION CONTACT: Brandon Steele at the U.S. Office of Government Ethics; telephone: 202-482-9209; TTY: 800-877-8339; FAX: 202-482-9237; Email: basteele@oge.gov. An electronic copy of the OGE Form 201 version used to manually submit access requests to OGE or other executive branch agencies by mail or FAX is available in the Forms Library section of OGE's Web site at http://www.oge.gov. A paper copy may also be obtained, without charge, by contacting Mr. Steele. An automated version of the OGE Form 201, also available on OGE's Web site, enables the requester to electronically fill out, submit, and receive access to financial reports and certain related records for individuals who have been nominated by the President to executive branch positions requiring Senate confirmation and individuals who have declared their candidacy for the Office of the President of the United States.

SUPPLEMENTARY INFORMATION: Title: Request to Inspect or Receive Copies of Executive Branch Personnel Public Financial Disclosure Reports or Other Covered Records.

Agency Form Number: OGE Form 201.

OMB Control Number: 3209-0002.

Type of Information Collection: Extension with modifications of a currently approved collection.

Type of Review Request: Regular.

Respondents: Individuals requesting access to executive branch public financial disclosure reports and other covered records.

Estimated Annual Number of Respondents: 1,003.

Estimated Time per Response: 10 minutes.

Estimated Total Annual Burden: 170 hours.

Abstract: The OGE Form 201 collects information from, and provides certain information to, persons who seek access to OGE Form 278 Public Financial Disclosure Reports, including OGE Form 278-T Periodic Transaction Reports, and other covered records. The form reflects the requirements of the Ethics in Government Act, subsequent amendments pursuant to the STOCK Act, and OGE's implementing regulations that must be met by a person before access can be granted. These requirements include the address of the requester, as well as any other person on whose behalf a record is sought, and acknowledgement that the requester is aware of the prohibited uses of executive branch public disclosure financial reports. See 5 U.S.C. app. 105(b) and (c) and 402 (b)(1) and 5 CFR 2634.603(c) and (f). Executive branch departments and agencies are encouraged to utilize the OGE Form 201 for individuals seeking access to public financial disclosure reports and other covered documents. OGE permits departments and agencies to use or develop their own forms as long as the forms collect and provide all of the required information.

OGE is proposing modifications to the automated version of the OGE Form 201, available only through the OGE Web site at www.oge.gov. Initially launched in March 2012, the automated version of the access form originally enabled a requestor to obtain immediately upon Web site submission of the completed form, those financial disclosure reports of individuals who have been nominated by the President to executive branch positions requiring Senate confirmation. OGE recently modified the technological process used to provide the information and no longer allows requesters to immediately download reports upon submission of the automated OGE Form 201. Instead, the forms are first reviewed by an OGE employee for completeness before the information is sent to the requester either by email or mail, according to the requester's preference. Adding this step helps ensure that the requirements of section 105(b) of the Ethics in Government Act are met before public financial disclosure reports are released. Because of this change in procedure, a requester using the automated OGE Form 201 now has the option of either providing a mailing address including street, city, state, and country information (as was previously required) or providing an email address plus city, state, and country information. Depending on which information the requester chooses to provide, the requested public financial disclosure reports will be either emailed or mailed to the requester. This change will not affect the estimated time of response to complete the form.

OGE also intends to update the maximum civil monetary penalty for improperly obtaining or using a public financial disclosure report on both the automated and nonautomated versions of the form, in accordance with 5 CFR 2634.703.

OGE published a first round notice of its intent to request paperwork clearance for a modified OGE Form 201. See 81 FR 70112 (October 11, 2016). OGE received no responses to that notice.

Request for Comments: Agency and public comment is again invited specifically on the need for and practical utility of this information collection, the accuracy of OGE's burden estimate, the enhancement of quality, utility, and clarity of the information collected, and the minimization of burden (including the use of information technology). Comments received in response to this notice will be summarized for, and may be included with, the OGE request for extension of OMB paperwork approval. The comments will also become a matter of public record.

Approved: December 22, 2016.
Walter M. Shaub, Jr.,
Director, Office of Government Ethics.

[FR Doc. 2016-31451 Filed 12-28-16; 8:45 am]

BILLING CODE 6345-02-P